DEPARTMENT OF TRANSPORTATION

Pipeline and Hazardous Materials Safety Administration

Hazardous Materials: Notice of applications for special permits

AGENCY: Pipeline and Hazardous Materials Safety Administration (PHMSA), DOT.

ACTION: List of Applications for Special Permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application”portion of the table below as follows: 1—Motor vehicle, 2—Rail freight, 3—Cargo vessel, 4—Cargo aircraft only, 5—Passenger-carrying aircraft.

DATES: Comments must be received on or before April 5, 2017.

ADDRESSES: Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

Copies of the applications are available for inspection in the Records Center, East Building, PHH-30, 1200 New Jersey Avenue Southeast, Washington, DC, or at http://regulations.gov.

This notice of receipt of applications for special permit is published in accordance with Part 107 of the Federal hazardous materials transportation law (49 U.S.C. 5117(b); 49 CFR 1.53(b)).

Issued in Washington, DC, on February 9, 2017.
Donald Burger,
Chief, Office of the Special Permits and Approvals.

Application No. | Docket No. | Applicant | Regulation(s) affected | Nature of the special permits thereof
Special Permits Data
20380-N |  | Western International Gas & Cylinders, Inc | 172.101 | To authorize the transportation in commerce of acetylene that is not dissolved in a solvent.
20381-N |  | Western International Gas & Cylinders, Inc | 172.101 | To authorize the transportation in commerce of limited quantities of acetylene not dissolved in a solvent.
20383-N |  | Sacramento Executive Helicopters, Inc | 72.101 Column(9B), 172.301(C), 173.315(J)(1), 175.30 | To authorize the transportation in commerce in the U.S. only of certain hazardous materials by 14 CFR Part 133 Rotorcraft External Load Operations transporting hazardous materials attached to or suspended from an aircraft and 14 CFR Part 135 operations transporting hazardous materials on board an aircraft.
20385-N |  | CMV SRL | 173.302(a), 173.304(a) | To authorize the manufacture, mark, sale, and use of non-DOT specification cylinders.
20386-N |  | Spaceflight | 173.185(a) | To authorize the transportation in commerce of lithium ion batteries contained in equipment that are not of a type proven to meet the requirements of the UN Manual of Tests and Criteria.
20387-N |  | Technip Stone & Webster Process Technology, Inc | 173.301(f), 173.301(G)(1), 178.71(Q)(1), 178.71(Q)(2), 178.71(q)(3) | To authorize the transportation in commerce on non-Dot specification cylinders.
20389-N |  | LG Chem | 173.185(a)(1) | To authorize the transportation in commerce of lithium ion batteries by cargo-only aircraft that are not of a type proved to meet the UN Manual of Tests and Criteria.
20391-N |  | Lincoln Hexagon, Inc. | 173.301(f), 173.302(a) | To authorize the transportation in commerce of bundled non-DOT specification cylinders without pressure relief devices.
20392-N |  | Starco Enterprises, Inc | 173.304(d) | To authorize the transportation in commerce of certain materials contained in non-DOT specification, non-refillable, inside metal containers conforming in part with DOT specification 2.
20393-N |  | Starco Enterprises, Inc | 173.304(d) | To authorize the transportation in commerce of the transportation in commerce of certain hazardous materials in non-DOT specification, non-refillable, inside metal containers conforming in part to DOT specification 2Q.
20394-N |  | Solid Power, Inc | 173.185(a) | To authorize the transportation in commerce of proto-type and low production lithium ion cells via cargo only aircraft that are not of a type proven to have met the testing requirements of the UN Manual of Tests and Criteria.
20395-N |  | Carleton Technologies, Inc | 173.304(a), 180.207 | To authorize the manufacture, mark, sale and use of non-DOT specification fully wrapped carbon-fiber rein-forced, aluminum-lined composite cylinders.
20396-N |  | Digital Wave Corporation | 173.304(a) | To authorize the requalification of tanks manufactured under DOT-SP 14951 and 14402 using modal acoustic emission (MAE) test method.
20397-N |  | Deep-Space Industries, Inc | 173.185(a)(1)(i) | To authorize the transportation in commerce of low production batteries contained in equipment by motor vehicle.
20398-N |  | Fly 4 You, Inc | 173.62 (c), 172.101 (j), 172.301 (c) | To authorize the transportation in commerce of certain Class 1 explosive materials which are forbidden for transportation by air, to be transported by cargo aircraft within the State of Alaska when other means of transportation are impracticable or not available.
20399-N |  | National Air Cargo Group, Inc | 173.27(b)(2), 175.30(a)(1), 172.101(j), 172.204(c)(3) | To authorize the transportation of certain explosives by cargo-only aircraft.
20400-N |  | Bic USA Inc | 173.308(c)(2) | To authorize the transportation in commerce of lighters in alternative packaging by private or contract motor carrier, or by common carrier in a motor vehicle under exclusive use, between manufacturing sites, distribution centers and retail outlets.
20401-N |  | ATK Launch Systems, Inc | 178.935(c)(1) | To authorize the transportation in commerce of UN50D packagings that meet the requirements for Large Packagings, except as provided herein.
20402-N |  | Orono Spectral Solutions, Inc | 173.315(l) | To authorize an alternative test method for the determination of the presence of the minimum water content in anhydrous ammonia.
20403-N |  | Daws Manufacturing Company, Inc | 177.834(h), 178.705(d), 178.811, 178.812 | To authorize the manufacture, mark, sale and use of non-DOT specification aluminum tanks with capacities not exceeding 95 gallons. Addition-ally, discharge of Class 3 hazardous materials from the tanks without removing them from the vehicle on which they are transported is authorized.
20404-N |  | Rotech Healthcare, Inc | 180.209(a), 180.209(b)(1), 180.209(b)(1)(iv) | To authorize the transportation in commerce of certain hazardous materials in DOT Specification 3AL cylinders that are requalified every ten years using 100% ultrasonic examination.
20408-N |  | United Parcel Service Co | 171-180 | To authorize the offering for transportation and transportation in commerce (as cargo) of Pilot Rest Modules (PRMs) containing certain hazardous materials required on aircraft under applicable airworthiness regulations for the safety of crew members, and which would be excepted from all provisions of the HMR except as prescribed in the special permit.
20409-N |  | IKI Manufacturing Co., Inc | 173.306(a)(5) | To authorize the transportation in commerce of plastic aerosols classed as Division 2.1 for the purposes of testing and disposal.
20411-N |  | Harris Corporation | 173.62(c) | To authorize the transportation in commerce of Division 1.4C explosives in non-DOT specification packaging.

[FR Doc. 2017-04012 Filed 3-3-17; 8:45 am]

BILLING CODE 4909-60-M